DEPARTMENT OF HOMELAND SECURITY

Coast Guard

33 CFR Part 165

[Docket No. USCG-2012-0375]

RIN 1625-AA00

Safety Zone; Milwaukee Harbor, Milwaukee, Wisconsin

AGENCY: Coast Guard, DHS.

ACTION: Notice of enforcement of regulation.

SUMMARY: The Coast Guard will enforce the safety zone in Milwaukee Harbor, Milwaukee, Wisconsin for annual fireworks displays in the Captain of the Port Lake Michigan zone at specified times from June 11, 2016 until September 10, 2016. This action is necessary and intended to ensure safety of life on the navigable waters immediately prior to, during, and immediately after fireworks displays. During the aforementioned periods, the Coast Guard will enforce restrictions upon, and control movement of, vessels in the safety zone. No person or vessel may enter the safety zone while it is being enforced without permission of the Captain of the Port Lake Michigan.

DATES: The regulations in 33 CFR 165.935 will be enforced at specified times from June 11, 2016 through September 10, 2016.

FOR FURTHER INFORMATION CONTACT: If you have questions on this notice of enforcement, call or email CWO Mark Stevens, Prevention Department, Coast Guard Sector Lake Michigan, Milwaukee, WI at (414) 747-7188, email mark.l.stevens@uscg.mil.

SUPPLEMENTARY INFORMATION: The Coast Guard will enforce the safety zone listed in 33 CFR 165.935, Safety Zone, Milwaukee Harbor, Milwaukee, Wisconsin, at the following times for the following events:

(1) Pridefest fireworks display on June 11, 2016 from 9:15 p.m. until 10:15 p.m.;

(2) Polish Fest fireworks display on June 18, 2016 from 10:15 p.m. until 11:15 p.m.;

(3) Summerfest fireworks display on June 29, 2016 from 9:15 p.m. until 10:15 p.m.;

(4) Festa Italiana fireworks display on each day of July 22, 23, and 24, 2016 from 9:45 p.m. until 10:30 p.m.;

(5) German Fest fireworks display on each day of July 29 and 30, 2016 from 10:15 p.m. until 11:15 p.m.;

(6) Irish Fest fireworks display on August 21, 2016 from 9:45 p.m. until 10:30 p.m.;

(7) Indian Summer fireworks display on September 10, 2016 from 9:45 p.m. until 10:45 p.m.

This safety zone will encompass the waters of Lake Michigan within Milwaukee Harbor including the Harbor Island Lagoon enclosed by a line connecting the following points: Beginning at 43°02′00″ N., 087°53′53″ W.; then south to 43°01′44″ N., 087°53′53″ W.; then east to 43°01′44″ N., 087°53′25″ W.; then north to 43°02′00″ N., 087°53′25″ W.; then west to the point of origin (NAD 83). As specified in 33 CFR 165.935, all vessels must obtain permission from the Captain of the Port Lake Michigan or a designated representative to enter, move within, or exit the safety zone when it is enforced. Vessels and persons granted permission to enter the safety zone must obey all lawful orders or directions of the Captain of the Port Lake Michigan or a designated representative.

This notice of enforcement is issued under authority of 33 CFR 165.935, Safety Zone; Milwaukee Harbor, Milwaukee, Wisconsin, and 5 U.S.C. 552(a). In addition to this notice of enforcement in the Federal Register, the Coast Guard plans to provide the maritime community with advance notification for the enforcement of this zone via Broadcast Notice to Mariners or Local Notice to Mariners. The Captain of the Port Lake Michigan or a representative may be contacted via Channel 16, VHF-FM.

Dated: May 23, 2016.
A.B. Cocanour,
Captain, U.S. Coast Guard, Captain of the Port Lake Michigan.

[FR Doc. 2016-13339 Filed 6-3-16; 8:45 am]

BILLING CODE 9110-04-P